DEPARTMENT OF THE INTERIOR

Notice of Termination of the Environmental Impact Statement for the Jean Lafitte National Historical Park and Preserve, Chalmette Battlefield, and National Cemetery General Management Plan Amendment

AGENCY: National Park Service, Department of the Interior.

ACTION: Notice of Termination of the Environmental Impact Statement for the Jean Lafitte National Historical Park, and Preserve, Chalmette Battlefield, and National Cemetery General Management Plan Amendment.

SUMMARY: The National Park Service (NPS) is terminating the Environmental Impact Statement (EIS) for the Jean Lafitte National Historical Park and Preserve, Chalmette Battlefield, and National Cemetery General Management Plan Amendment (GMPA). A Notice of Intent to prepare this EIS was published in the Federal Register on May 2, 2003. After public scoping and a preliminary analysis of impacts related to the GMPA alternatives, the NPS determined that the impacts of the alternatives considered would be at or below the minor/negligible level. Consequently, the EIS is not necessary and NPS decided to terminate the EIS. The NPS intends to continue the GMPA process by completing an Environmental Assessment.

FOR FURTHER INFORMATION CONTACT: National Park Service, Jean Lafitte National Historical Park and Preserve, 419 Decatur Street, New Orleans, Louisiana 70130-1035, telephone: 504-589-3882, e-mail: JELA_Superintendent@nps.gov.

The authority for publishing this notice is 42 U.S.C. 4332(2)(C).

The responsible official for this EIS is David Vela, Regional Director, Southeast Region, National Park Service, 100 Alabama Street, SW., 1924 Building, Atlanta, Georgia 30303.

Dated: May 7, 2009.
Art Frederick,
Acting Regional Director, Southeast Region.

[FR Doc. E9-13325 Filed 6-5-09; 8:45 am]

BILLING CODE 4310-VE-P